CORPORATION FOR NATIONAL AND COMMUNITY SERVICE

Submission for OMB Emergency Review

AGENCY: Corporation for National and Community Service.

ACTION: Notice.

SUMMARY: The Corporation for National and Community Service (hereinafter “CNCS”), submitted the following information collection request (ICR) to the Office of Management and Budget (OMB) for review and clearance in accordance with the Paperwork Reduction Act of 1995 (PRA 95) (44 U.S.C. Chapter 35). CNCS requested that OMB review and approve its emergency request by June 18, 2012, for a period of six months. A copy of this ICR, with applicable supporting documentation, may be obtained by contacting Kimberly Spring, (202) 606-6629 or by email at kspring@cns.gov.

A 60-day public comment Notice was published in the Federal Register on March 30, 2012. This comment period ended May 29, 2012. One public comment was received to add a question to gather data on practices found to be effective in providing training and support specific to veterans who serve as national service participants. In response, CNCS had added a question to reflect this comment. CNCS has requested OMB's approval of this emergency request by June 18, 2012, prior to the usual 30-day public comment and desk review periods. Therefore, there will be not enough time for the public to provide comments through this Federal Register Notice before the approval date.

Type of Review: Emergency request.

Agency: Corporation for National and Community Service.

Title: Field Assessment of the Involvement of Veterans and Military Families in National Service.

OMB Number: None.

Agency Number: None.

Affected Public: Non-profit organizations and state, city/local, and tribal agencies.

Total Respondents: 100.

Frequency: One time.

Average Time per Response: 50 minutes.

Estimated Total Burden Hours: 83.3 hours.

Total Burden Cost (capital/startup): None.

Total Burden Cost (operating/maintenance): None.

Comments

Description: The 2009 Edward M. Kennedy Serve America Act, which reauthorized CNCS, directed the agency to expand the participation of veterans and military families in national service and provide to Congress a study and report detailing the agency's strategies, efforts, and results. In response, CNCS has worked to expand the quantity and quality of national service programs that involve these populations as both national service participants and service beneficiaries. The proposed information collection is intended to provide CNCS, its programs, and the national service field with information on the models and practices of national service programs and projects that engage and serve these populations. Through the study, CNCS will also begin to build an evidence base for documenting the effectiveness and impact of national service in this area. In addition, the data collection will provide critical information to CNCS that is needed to complete the Congressional report, which will document how the strategies undertaken by CNCS have enabled greater participation by veterans and how existing CNCS programs and activities could be improved to serve veterans and military families [Sec. 196C. (42 U.S.C. 12651k)]. The Congressional report is due prior to November, 2012. In an effort to be compliant with this Congressional requirement and maintain our ability to respond accurately and responsively to Congress on our activities related to veterans and military families, we are therefore submitting the information collection request under 5 CFR 1320.13 to OMB for emergency processing and approval of information collection activities.

The submission includes the interview protocol for existing CNCS grantees. The interviews will collect information on the models and strategies that national service programs and projects have developed and implemented to engage and serve veterans and military families. The aim of the study is to begin to build evidence of impact and isolate the unique value that national service brings to meeting the needs of these populations. Participation in the information collection is voluntary and will not be used in grant funding decisions.

If you have any questions, contact Kimberly Spring at 202-606-6629 or kspring@cns.gov.

Dated: June 5, 2012.
Idara Nickelson,
Chief of Program Operations.

[FR Doc. 2012-14009 Filed 6-8-12; 8:45 am]

BILLING CODE 6050-$$-P